INTERNATIONAL TRADE COMMISSION

Notice of Receipt of Complaint; Solicitation of Comments Relating to the Public Interest

AGENCY: U.S. International Trade Commission.

ACTION: Notice.

SUMMARY: Notice is hereby given that the U.S. International Trade Commission has received a complaint entitled Certain Pillows and Seat Cushions, Components Thereof, and Packaging Thereof, DN 3633; the Commission is soliciting comments on any public interest issues raised by the complaint or complainant's filing pursuant to the Commission's Rules of Practice and Procedure.

FOR FURTHER INFORMATION CONTACT: Katherine M. Hiner, Acting Secretary to the Commission, U.S. International Trade Commission, 500 E Street SW, Washington, DC 20436, telephone (202) 205-2000. The public version of the complaint can be accessed on the Commission's Electronic Document Information System (EDIS) at https://edis.usitc.gov. For help accessing EDIS, please email EDIS3Help@usitc.gov. General information concerning the Commission may also be obtained by accessing its internet server at United States International Trade Commission (USITC) at https://www.usitc.gov. The public record for this investigation may be viewed on the Commission's Electronic Document Information System (EDIS) at https://edis.usitc.gov. Hearing-impaired persons are advised that information on this matter can be obtained by contacting the Commission's TDD terminal on (202) 205-1810.

SUPPLEMENTARY INFORMATION: The Commission has received a complaint and a submission pursuant to § 210.8(b) of the Commission's Rules of Practice and Procedure filed on behalf of Purple Innovation, LLC on August 5, 2022. The complaint alleges violations of section 337 of the Tariff Act of 1930 (19 U.S.C. 1337) in the importation into the United States, the sale for importation, and the sale within the United States after importation of pillows and seat cushions, components thereof, and packaging thereof. The complainant names as respondents: Bedmate-U Co., Ltd. of Korea; Chuang Fan Handicraft Co., Ltd of China; Dongguan Bounce Technology Co., Ltd. of China; Dongguan Jingrui Silicon Technology Co., Ltd. of China; Foshan Dirani Design Furniture Co., Ltd. of China; Global Ocean Trading Co., Ltd. of China; Guang An Shi Lin Chen Zai Sheng Wuzi Co. Ltd. of China; Guang Zhou Wen Jie Shang Mao Youxian Gongsi Co., Ltd. of China; Guangzhou Episilon Import and Export Co., Ltd. of China; Guangzhoushi Baixiangguo Keji Youxian Gongsi Co., Ltd. of China; Haircrafters LLC of Chattanooga, TN; Hangzhou Lishang Import & Export Co., Ltd. of China; Hangzhou Lydia Sports Goods Co., Ltd. of China; Hebei Zeyong Technology Co., Ltd. of China; Henson Holdings, LLC d.b.a. SelectSoma of Lafayette. LA; Hetaibao of China; Hubei Sheng Bingyi Dianzi Keji Youxian Gongsi Co. Ltd. of China; Kaifeng Shi Long Ting Qu Chen Yi Shangmao Youxian Gongsi Co., Ltd. of China; Lankao Junchang Electronic Commerce Co., Ltd. of China; Lei Lei Wang of China; Liu Lin Xian Xu Bin Dian Zi Chan Pin Dian of China; Nanchang Shirong Bao Er Guanggao Youxian Gongsi Co., Ltd. of China; Ningbo Bolian Import & Export Co., Ltd. of China; Ningbo Minzhou Import & Export Co., Ltd. of China; Ruian Ketai Commodity Co. Ltd. of China; Ruian Xiu Yuan Guoji MaoYi Youxian Gongsi Co., Ltd. of China; Shandong Jiu Hui Xinxi Keji Youxian Gongsi Co., Ltd. of China; Shanxi Chao Ma Xun Keji Youxian Gongsi Co., Ltd. of China; Shenzhen Baibaikang Technology Co., Ltd. of China; Shenzhen Leadfar Industry Co., Ltd. of China; Shenzhen Shi Chi Yang Wang Luo Ji Shu Youxian Gongsi Co., Ltd. of China; Shenzhen Shi Mai Rui Ke Dianzi Shangwu Co. Ltd. of China; Shenzhen Shi Xin Shangpin Dianzi Shangwu Youxian Gongsi Co., Ltd. of China; Shenzhen Shi Yan Huang Chu Hai Keji Youxian Gongsi Co., Ltd. of China; Shenzhen Shi Yuxiang Meirong Yongju Youxian Gongsi Co. Ltd. of China; Shenzhen Tianrun Material Co., Ltd. of China; Wuhan Chenkuxuan Technology Co., Ltd. of China; Xiao Dawei of China; Xiao Xiao Pi Fa Shang Mao You Xian Ze Ren Gongsi Co. of China; YaRu Wang of China; Yiwu Youru E-commerce Co., Ltd. of China; Zhejiang Xinhui Import & Export Co., Ltd. of China; and Zhou Meng Bo of China. The complainant requests that the Commission issue a limited exclusion order and cease and desist orders and impose a bond upon respondents' alleged infringing articles during the 60-day Presidential review period pursuant to 19 U.S.C. 1337(j).

Proposed respondents, other interested parties, and members of the public are invited to file comments on any public interest issues raised by the complaint or § 210.8(b) filing. Comments should address whether issuance of the relief specifically requested by the complainant in this investigation would affect the public health and welfare in the United States, competitive conditions in the United States economy, the production of like or directly competitive articles in the United States, or United States consumers.

In particular, the Commission is interested in comments that:

(i) explain how the articles potentially subject to the requested remedial orders are used in the United States;

(ii) identify any public health, safety, or welfare concerns in the United States relating to the requested remedial orders;

(iii) identify like or directly competitive articles that complainant, its licensees, or third parties make in the United States which could replace the subject articles if they were to be excluded;

(iv) indicate whether complainant, complainant's licensees, and/or third party suppliers have the capacity to replace the volume of articles potentially subject to the requested exclusion order and/or a cease and desist order within a commercially reasonable time; and

(v) explain how the requested remedial orders would impact United States consumers.

Written submissions on the public interest must be filed no later than by close of business, eight calendar days after the date of publication of this notice in the Federal Register. There will be further opportunities for comment on the public interest after the issuance of any final initial determination in this investigation. Any written submissions on other issues must also be filed by no later than the close of business, eight calendar days after publication of this notice in the Federal Register. Complainant may file replies to any written submissions no later than three calendar days after the date on which any initial submissions were due. No other submissions will be accepted, unless requested by the Commission. Any submissions and replies filed in response to this Notice are limited to five (5) pages in length, inclusive of attachments.

Persons filing written submissions must file the original document electronically on or before the deadlines stated above. Submissions should refer to the docket number (“Docket No. 3633”) in a prominent place on the cover page and/or the first page. (See Handbook for Electronic Filing Procedures, Electronic Filing Procedures ¹). Please note the Secretary's Office will accept only electronic filings during this time. Filings must be made through the Commission's Electronic Document Information System (EDIS, https://edis.usitc.gov.) No in-person paper-based filings or paper copies of any electronic filings will be accepted until further notice. Persons with questions regarding filing should contact the Secretary at EDIS3Help@usitc.gov.

¹ Handbook for Electronic Filing Procedures: https://www.usitc.gov/documents/handbook_on_filing_procedures.pdf.

Any person desiring to submit a document to the Commission in confidence must request confidential treatment. All such requests should be directed to the Secretary to the Commission and must include a full statement of the reasons why the Commission should grant such treatment. See 19 CFR 201.6. Documents for which confidential treatment by the Commission is properly sought will be treated accordingly. All information, including confidential business information and documents for which confidential treatment is properly sought, submitted to the Commission for purposes of this Investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel,² solely for cybersecurity purposes. All nonconfidential written submissions will be available for public inspection at the Office of the Secretary and on EDIS.³

² All contract personnel will sign appropriate nondisclosure agreements.

³ Electronic Document Information System (EDIS): https://edis.usitc.gov.

This action is taken under the authority of section 337 of the Tariff Act of 1930, as amended (19 U.S.C. 1337), and of §§ 201.10 and 210.8(c) of the Commission's Rules of Practice and Procedure (19 CFR 201.10, 210.8(c)).

By order of the Commission.
Issued: August 8, 2022.
Katherine Hiner,
Acting Secretary to the Commission.

[FR Doc. 2022-17298 Filed 8-11-22; 8:45 am]

BILLING CODE 7020-02-P